DEPARTMENT OF VETERANS AFFAIRS

[OMB Control No. 2900-0894]

Agency Information Collection Activity Under OMB Review: Program of Comprehensive Assistance for Family Caregivers (PCAFC) Decision Appeal Forms

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0894.

FOR FURTHER INFORMATION CONTACT: Maribel Aponte, Office of Enterprise and Integration, Data Governance Analytics (008), 1717 H Street NW, Washington, DC 20006, (202) 266-4688 or email maribel.aponte@va.gov. Please refer to “OMB Control No. 2900-0894” in any correspondence.

SUPPLEMENTARY INFORMATION:

Authority: 44 U.S.C. 3501-3521.

Title: Program of Comprehensive Assistance for Family Caregivers (PCAFC) Decision Appeal Forms, VA Forms 10-306 and 10-307.

OMB Control Number: 2900-0894.

Type of Review: Extension of a currently approved collection.

Abstract: The Caregivers and Veterans Omnibus Health Services Act of 2010 (Pub. L. 111-163) established 38 U.S.C. 1720G, which directed the Department of Veterans Affairs (VA) to establish a Program of Comprehensive Assistance for Family Caregivers (PCAFC) and a Program of General Caregiver Support Services (PGCSS). Both programs are managed by VA's Caregiver Support Program (CSP) Office. On June 06, 2018, the President signed into law the John S. McCain III, Daniel K. Akaka, and Samuel R. Johnson VA Maintaining Internal Systems and Strengthening Integrated Outside Networks Act of 2018 or the VA MISSION Act 2018 (Pub. L. 115-182). The VA MISSION Act of 2018 fundamentally transformed elements of the Department of Veterans Affairs' (VA) healthcare system to include expanding the PCAFC to Family Caregivers of eligible Veterans of all eras in a phased approach, established new benefits for Primary Family Caregivers of eligible Veterans, and made other changes affecting program eligibility and VA's evaluation of PCAFC applications. The statutory authority for PCAFC and PGCSS is codified at 38 U.S.C. 1720G. VA's regulations implementing PCAFC and PGCSS are in 38 CFR part 71.

Since program inception, Veterans and caregivers who disagree with a PCAFC decision were afforded the right to appeal through the Veterans Health Administration (VHA) Clinical Appeals Process. A recent Court ruling has changed the appeal and review options now available to individuals who have received a PCAFC decision and disagree with that decision. On April 19, 2021, in the case of Jeremy Beaudette & Maya Beaudette v. Denis McDonough, Secretary of Veterans Affairs, the U.S. Court of Appeals for Veterans Claims ruled in favor of petitioners seeking review by the Board of Veterans' Appeals (BVA or Board) of decisions under the PCAFC. The Court also certified, as a class, claimants who received an adverse benefits decision under PCAFC, exhausted the administrative review process within VHA (the VHA Clinical Appeals Process), and have not been afforded the right to appeal to the Board. As a result of the Court's ruling, BVA review is now available to individuals who have received a decision under the PCAFC since the program began in May 2011. Consequently, VA has expanded options available to Veterans and caregivers who seek review of or to appeal a PCAFC decision.

The options now include a separate appeals process (legacy) that must be used to appeal to the Board regarding PCAFC decisions issued before February 19, 2019. This legacy process is implemented through use of VA Forms 10-306 and 10-307.

VA Form 10-306, Request for Information—Because individuals now have additional options for appealing and seeking review of previous PCAFC decisions, dating back to May 2011, this form allows Veterans and caregivers to request information about past PCAFC decisions to determine whether they wish to pursue an appeal to the Board or request review.

VA Form 10-307, Notice of Disagreement—This form was developed because VA Form 21-0958, which previously was used to initiate an appeal to the Board of benefits decisions dated before February 19, 2019, is no longer an approved information collection. VA Form 10-307, Notice of Disagreement, is now used for legacy appeals of PCAFC decisions and is specific to individuals who wish to appeal a PCAFC decision that was issued prior to February 19, 2019.

An agency may not conduct or sponsor, and a person is not required to respond to a collection of information unless it displays a currently valid OMB control number. The Federal Register Notice with a 60-day comment period soliciting comments on this collection of information was published at: 87 FR 42 on March 3, 2022, pages 12223 and 12224.

Affected Public: Individuals or Households.

Estimated Annual Burden: 88,270 total hours.

a. 10-306—45,500 hours.

b. 10-307—42,770 hours.

Estimated Average Burden per Respondent: 45 total minutes.

a. 10-306—15 minutes.

b. 10-307—30 minutes.

Frequency of Response: Once annually.

Estimated Number of Respondents: 267,540 total.

a. 10-306—182,000.

b. 10-307—85,540.

By direction of the Secretary.
Maribel Aponte,
VA PRA Clearance Officer, Office of Enterprise and Integration, Data Governance Analytics, Department of Veterans Affairs.

[FR Doc. 2022-09973 Filed 5-9-22; 8:45 am]

BILLING CODE 8320-01-P